NUCLEAR REGULATORY COMMISSION

[Docket No. 50-482]

Wolf Creek Nuclear Operating Corporation; Wolf Creek Generating Station; Notice of Availability of the Final Supplement 32 to the Generic Environmental Impact Statement for License Renewal of Nuclear Plants, Regarding the License Renewal of Wolf Creek Generating Station

Notice is hereby given that the U.S. Nuclear Regulatory Commission (NRC, Commission) has published a final plant-specific supplement to the “Generic Environmental Impact Statement for License Renewal of Nuclear Plants (GEIS),” NUREG-1437, regarding the renewal of operating license NPF-42 for an additional 20 years of operation for the Wolf Creek Generating Station (Wolf Creek). Wolf Creek is located 3.5 miles northeast of the town of Burlington, in Coffey County, Kansas. It is approximately 75 miles southwest of Kansas City and approximately 3.5 miles east of the Neosho River and the John Redmond Reservoir. The nearest population center, Emporia, is 28 miles west-northwest of the site. Other nearby communities are New Strawn and Burlington. Possible alternatives to the proposed action (license renewal) include no action and reasonable alternative energy sources.

As discussed in Section 9.3 of the final Supplement 32, based on: (1) The analysis and findings in the GEIS; (2) the Environmental Report submitted by Wolf Creek Nuclear Operating Corporation; (3) consultation with Federal, State, and local agencies; (4) the staff's own independent review; and (5) the staff's consideration of public comments, the recommendation of the staff is that the Commission determine that the adverse environmental impacts of license renewal for Wolf Creek are not so great that preserving the option of license renewal for energy-planning decision makers would be unreasonable.

The final Supplement 32 to the GEIS is publicly available at the NRC Public Document Room (PDR), located at One White Flint North, 11555 Rockville Pike, Rockville, Maryland 20852, or from the NRC's Agency-wide Documents Access and Management System (ADAMS). The ADAMS Public Electronic Reading Room is accessible at http://adamswebsearch.nrc.gov/dologin.htm. The Accession Number for the final Supplement 32 to the GEIS is ML081260608. Persons who do not have access to ADAMS, or who encounter problems in accessing the documents located in ADAMS, should contact the NRC's PDR Reference staff by telephone at 1-800-397-4209, or 301-415-4737, or by e-mail at pdr@nrc.gov. The Accession Number for the final Supplement 32 to the GEIS is ML081260608. In addition, the Kansas Public Library Burlington Branch in Burlington, Kansas, has agreed to make the final Supplement available for public inspection.

FOR FURTHER INFORMATION CONTACT: Mr. Tam Tran, Project Branch 1, Division of License Renewal, Office of Nuclear Reactor Regulation, U.S. Nuclear Regulatory Commission, Mail Stop O-11F1, Washington, DC 20555-0001. Mr. Tran may be contacted by telephone at 1-800-368-5642, extension 3617 or via e-mail at Tam.Tran@nrc.gov.

Dated at Rockville, Maryland, this 8th day of May, 2008.
For the Nuclear Regulatory Commission.
Louise Lund,
Branch Chief, Project Branch 1, Division of License Renewal, Office of Nuclear Reactor Regulation.

[FR Doc. E8-10822 Filed 5-13-08; 8:45 am]

BILLING CODE 7590-01-P